DEPARTMENT OF JUSTICE

Notice of Lodging of Consent Decree Under the Clean Water Act

Under 28 CFR 50.7, notice is hereby given that on October 19, 2005, a proposed consent decree in United States v. Seven-Up/RC Bottling Company of Southern California, Inc., Case No. CV-05-7514 AHM (CTx), was lodged with the United States District Court for the Central District of Columbia.

In this action, the United States sought injunctive relief and civil penalties under section 309 of the Clean Water Act (“CWA”) against Seven-Up/RC Bottling Company of Southern California, Inc. (“Seven-Up”) at its soft drink bottling facilities in Vernon and Buena Park, California, for: Unauthorized discharges of pollutants, including industrial wastes and storm water associated with industrial activity, into waters of the United States; violations of the terms and conditions of storm water permits; and violations of federal pretreatment standards. The consent decree requires Seven-Up to: (1) Implement a comprehensive pH compliance plan at the Buena Park facility, including putting in place a new treatment system, a new monitoring protocol, and an employee training program; (2) implement a storm water control plan to manage the industrial pollutants generated by the Vernon facility's outdoor activities; (3) implement a storm water inspection and response program for both bottling facilities; and (4) pay a civil penalty of $428,500.

The Department of Justice will receive for a period of thirty (30) days from the date of this publication comments relating to the consent decree. Comments should be addressed to the Assistant Attorney General, Environment and Natural Resources Division, P.O. Box 7611, U.S. Department of Justice, Washington, DC 20044-7611, with a copy to Robert Mullaney, U.S. Department of Justice, 301 Howard Street, Suite 1050, San Francisco, CA 94105, and should refer to United States v. Seven-Up/RC Bottling Company of Southern California, Inc., D.J. Ref. #90-5-1-1-08191.

The consent decree may be examined at U.S. EPA Region 9, Office of Regional Counsel, 75 Hawthorne Street, San Francisco, California. During the public comment period, the consent decree may also be examined on the following Department of Justice Web site: http://www.usdoj.gov/enrd/open.html. A copy of the consent decree may also be examined on the following Department of Justice Web site: http://www.usdoj.gov/enrd/open.html. A copy of the consent decree may also be obtained by mail from the Consent Decree Library, PO Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $9.00 (25 cents per page reproduction cost) payable to the U.S. Treasury.

Ellen M. Mahan,
Assistant Chief, Environmental Enforcement Section, Environment and Natural Resources Division.

[FR Doc. 05-21885 Filed 11-1-05; 8:45 am]

BILLING CODE 4410-15-M